NEIGHBORHOOD REINVESTMENT CORPORATION

Sunshine Act Meetings

TIME AND DATE: 1:30 p.m., Tuesday, August 28, 2018.

PLACE: NeighborWorks America—Gramlich Boardroom, 999 North Capitol Street NE, Washington DC 20002.

STATUS: Open (with the exception of Executive Session).

MATTERS TO BE CONSIDERED:

I. CALL TO ORDER

II. Approval of Minutes

III. Executive Session: Report from CEO

IV. Executive Session: Internal Audit Report

V. Preliminary FY19 Budget

VI. Fluid Helix LIFT Vendor Contract

VII. Housing Counseling Fee for Service Opportunity

VIII. FY18 Corporate Goal Performance

IX. 40th Anniversary Board Agency Event

X. Management Program Background and Updates

XI. Adjournment

CONTACT PERSON FOR MORE INFORMATION: Rutledge Simmons, Acting EVP & General Counsel/Secretary, (202) 760-4105; Rsimmons@nw.org.

The General Counsel of the Corporation has certified that in his opinion, one or more of the exemptions set forth in 5 U.S.C. 552(b)(2) and (4) permit closure of the following portion(s) of this meeting:

• Report from CEO

• Internal Audit Report

Rutledge Simmons,
Acting EVP & General Counsel/Corporate Secretary.

[FR Doc. 2018-17484 Filed 8-13-18; 11:15 am]

BILLING CODE 7570-02-P